FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[November 1, 2014 thru November 28, 2014]
11/03/2014:
20150053 | G | The Middleby Corporation; Linsalata Capital Partners Fund IV, L.P.; The Middleby Corporation.
20150061 | G | Eric Mandelblatt c/o Soroban Capital Partners LLC; Axiall Corporation; Eric Mandelblatt c/o Soroban Capital Partners LLC.
20150116 | G | China Everbright Limited; The Porter Irrevocable Trust, dated October 16, 2014; China Everbright Limited.
11/04/2014:
20150095 | G | Catamaran Corporation; Salveo Specialty Pharmacy, Inc.; Catamaran Corporation.
20150098 | G | Johnson & Johnson; Aduro Biotech, Inc.; Johnson & Johnson.
20150104 | G | Targa Resources Partners LP; Atlas Pipeline Partners, L.P.; Targa Resources Partners LP.
11/05/2014:
20150107 | G | CDC Holdings, L.P.; Xand Holdings, LLC; CDC Holdings, L.P.
11/07/2014:
20141553 | G | Dynegy Inc.; EquiPower Resources Corp.; Dynegy Inc.
20141554 | G | Dynegy Inc.; Energy Capital Partners II-A, L.P.; Dynegy Inc.
20141555 | G | Dynegy Inc.; Duke Energy Corporation; Dynegy Inc.
20150067 | G | Vista Equity Partners Fund V, L.P.; NAVEX Global Holding Company; Vista Equity Partners Fund V, L.P.
20150097 | G | Archer-Daniels-Midland Company; Marathon Fund Limited Partnership V; Archer-Daniels-Midland Company.
20150109 | G | Vista Equity Partners Fund V, L.P.; Welsh, Carson, Anderson & Stowe X, L.P.; Vista Equity Partners Fund V, L.P.
20150122 | G | Eurazeo S.A.; Fantasy Flight Publishing, Inc.; Eurazeo S.A.
20150123 | G | Permira IV Continuing L.P. 2; Riverside Capital Appreciation Fund V, L.P.; Permira IV Continuing L.P. 2.
20150124 | G | Onex Partners III LP; MCMC Holdings, LLC; Onex Partners III LP.
20150125 | G | Southwestern Energy Company; Chesapeake Energy Corporation; Southwestern Energy Company.
20150138 | G | TPG VI DE AIV II, L.P.; Creative Artists Agency Holdings, LLC; TPG VI DE AIV L.P.
20150140 | G | Providence Equity Partners VI-A L.P.; TPG Partners VI, L.P.; Providence Equity Partners VI-A L.P.
11/10/2014:
20141521 | G | Ingersoll-Rand plc; Cameron International Corporation; Ingersoll-Rand plc.
20150051 | G | Butler Group Holdings, Inc.; M.D. On-Line, Inc.; Butler Group Holdings, Inc.
20150136 | G | Signature Group Holdings, Inc.; Aleris Corporation; Signature Group Holdings, Inc.
11/12/2014:
20150112 | G | Avis Budget Group, Inc.; JMM, LLC; Avis Budget Group, Inc.
20150127 | G | ONEOK Partners, L.P.; Chevron Corporation; ONEOK Partners, L.P.
11/13/2014:
20150059 | G | New York-Presbyterian Foundation, Inc.; Westchester Putnam Health Management System, Inc.; New York-Presbyterian Foundation, Inc.
20150102 | G | New Mountain Partners IV, L.P.; ABRY Partners V, L.P.; New Mountain Partners IV, L.P.
20150115 | G | RLJ Equity Partners Fund I, L.P.; Shamrock Capital Growth Fund III, L.P.; RLJ Equity Partners Fund I, L.P.
20150134 | G | Progress Software Corporation; Telerik AD; Progress Software Corporation.
20150152 | G | FTS International, Inc.; Westerman Interests, Inc.; FTS International, Inc.
11/14/2014:
20141606 | G | Wizard Parent LLC; Micro Focus International plc; Wizard Parent LLC.
20141607 | G | Micro Focus International plc; Wizard Parent LLC; Micro Focus International plc.
20150060 | G | TGC Industries, Inc.; Dawson Geophysical Company; TGC Industries, Inc.
20150139 | G | Roche Holding Ltd; NewLink Genetics Corporation; Roche Holding Ltd.
20150147 | G | UnitedHealth Group, Inc.; Alere Inc.; UnitedHealth Group, Inc.
20150151 | G | Thoma Bravo Fund X, L.P.; Primus Capital Fund VI, LP; Thoma Bravo Fund X, L.P.
11/17/2014:
20141559 | G | Cargill Incorporated; Archer-Daniels-Midland Company; Cargill Incorporated.
20150154 | G | Anadarko Petroleum Corporation; EnCap Energy Infrastructure Fund, L.P.; Anadarko Petroleum Corporation.
20150160 | G | Carlyle Partners VI Cayman, L.P.; Dealogic (Holdings) plc; Carlyle Partners VI Cayman, L.P.
20150167 | G | SunEdison, Inc.; Capital Dynamics US Solar Energy A, L.P; SunEdison, Inc.
20150171 | G | Secondary Opportunities Fund III, LP; Long Point Capital Fund II, L.P.; Secondary Opportunities Fund III, LP.
20150172 | G | Vijay Goradia; Ashland Inc.; Vijay Goradia
20150174 | G | 3i Group plc; Industrial Growth Partners III, L.P.; 3i Group plc.
20150175 | G | OEC Holdings 4 L.P.; MidOcean Partners III, L.P.; OEC Holdings 4 L.P.
20150184 | G | Aurobindo Pharma Limited; Natrol Holdings, Inc. (debtor-in-possession); Aurobindo Pharma Limited.
20150186 | G | ICV Partners III, L.P.; Natrol Holdings, Inc. (debtor-in-possession); ICV Partners III, L.P.
11/18/2014:
20141600 | G | Cognizant Technology Solutions Corporation; Apax Europe VII-B, L.P.; Cognizant Technology Solutions Corporation.
20150078 | G | Endo International plc; Auxilium Pharmaceuticals, Inc.; Endo International plc.
20150141 | G | Danaher Corporation; GTCR Fund IX/A, L.P.; Danaher Corporation.
20150142 | G | Fresenius Medical Care AG & Co. KGaA AEA Investors 2006 Fund L.P.; Fresenius Medical Care AG & Co. KGaA.
20150168 | G | Riverstone Global Energy and Power Fund V, L.P.; Intervale Capital Fund, L.P.; Riverstone Global Energy and Power Fund V, L.P.
20150195 | G | FFL/EM Holdings, LLC; Dr. H. Douglas Barnes; FFL/EM Holdings, ITC.
11/19/2014:
20141588 | G | Thoma Bravo Fund XI, L.P.; Compuware Corporation; Thoma Bravo Fund XI, L.P.
20150146 | G | BAE Systems plc; Perimeter Internetworking Corp.; BAE Systems plc.
20150157 | G | Green Equity Investors VI, L.P.; HP V AIV-4, L.P.; Green Equity Investors VI, L.P.
20150170 | G | HGGC Fund II, L.P.; SSI/Opinionology Newco LLC; HGGC Fund II, L.P.
20150182 | G | Platform Specialty Products Corporation; Permira IV L.P. 2; Platform Specialty Products Corporation.
20150185 | G | DTE Energy Co.; LS Power Equity Partners II, L.P.; DTE Energy Co.
20150188 | G | Littlejohn Fund V, L.P.; Lindsay Goldberg III L.P.; Littlejohn Fund V, L.P.
20150189 | G | Hercules VB Holdings, Inc.; Herff Jones, Inc.; Hercules VB Holdings, Inc.
11/20/2014:
20150131 | G | Mr. Madhava Reddy; CareTech Solutions, Inc.; Mr. Madhava Reddy.
20150179 | G | Aetna Inc.; bSwift LLC; Aetna Inc.
20150192 | G | Schlumberger N.V.; Don Carruth; Schlumberger N.V.
11/21/2014:
20150144 | G | Saudi Arabian Oil Company; S-Oil Corporation; Saudi Arabian Oil Company.
20150158 | G | Lockheed Martin Corporation; Albert Nardslico; Lockheed Martin Corporation.
20150161 | G | DI Parent, LP; Distribution International Holdings, LLC; DI Parent, LP.
20150181 | G | Mitsubishi Estate Co., Ltd.; Michael A. Ruane; Mitsubishi Estate Co., Ltd.
20150187 | G | Wind Point Partners VII-A, L.P.; KIPB Group Holdings, Inc.; Wind Point Partners VII-A, L.P.
20150194 | G | EQT VI (No.1) Limited Partnership; Siemens AG; EQT VI (No.1) Limited Partnership.
20150210 | G | Greenbriar Equity Fund III, L.P.; Robert W. Munch and Judith A. Munch; Greenbriar Equity Fund L.P.
20150212 | G | Timothy P. Horne; 2003 Riverside Capital Appreciation Fund, L.P.; Timothy P. Horne.
20150215 | G | OEC Holdings 4 L.P.; Platinum Equity Capital SPL Partners, L.P.; OEC Holdings 4 L.P.
20150217 | G | Scott Rudolph; Natrol Holdings, Inc. (debtor-in-possession); Scott Rudolph.
11/24/2014:
20150199 | G | General Electric Company; The Resolute Fund II SIE, L.P.; General Electric Company.
20150206 | G | ArcLight Energy Partners Fund V, L.P.; Sempra Energy; ArcLight Energy Partners Fund V, L.P.
11/25/2014:
20150013 | G | CVS Holdings I, LLC; Stephen Bolick; CVS Holdings I, LLC.
20150155 | G | Permira V L.P. 2; Metalogix H&S Holdings Ltd.; Permira V L.P. 2.
20150223 | G | American Capital Equity III, LP; Schulman IRB Holdings LP; American Capital Equity III, LP.
11/26/2014:
20141011 | G | GlaxoSmithKline plc; Leo Constellation Limited; GlaxoSmithKline plc.
20141013 | G | GlaxoSmithKline plc; Novartis AG; GlaxoSmithKline plc.

FOR FURTHER INFORMATION CONTACT: Renee Chapman, Contact Representative or Theresa Kingsberry, Legal Assistant, Federal Trade Commission, Premerger Notification Office, Bureau of Competition, Room CC-5301, Washington, DC 20024, (202) 326-3100.

By Direction of the Commission.
Donald S. Clark,
Secretary.

[FR Doc. 2014-28940 Filed 12-10-14; 8:45 am]

BILLING CODE 6750-01-M